ENVIRONMENTAL PROTECTION AGENCY

[OECA-2004-0023; FRL-7811-3]

Agency Information Collection Activities; Submission to OMB for Review and Approval; Comment Request; ECOS Survey of State Performance Measures, EPA ICR Number 2143.01

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before October 13, 2004.

ADDRESSES: Submit your comments, referencing docket ID number OECA-2004-0023, to (1) EPA online using EDOCKET (our preferred method), by e-mail to docket.oeca@epa.gov, or by mail to: EPA Docket Center, Environmental Protection Agency, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Lynn Vendinello, Office of Compliance, Mail Code 2222A, Environmental Protection Agency, 1200 Pennsylvania Ave., NW., Washington, DC 20460; telephone number: (202) 564-7066; fax number: (202) 564-0031; e-mail address: vendinello.lynn@epa.gov.

SUPPLEMENTARY INFORMATION: EPA has submitted the following ICR to OMB for review and approval according to the procedures prescribed in 5 CFR 1320.12. On April 30, 2004 (69 FR 23744), EPA sought comments on this ICR pursuant to 5 CFR 1320.8(d). EPA has addressed the comments received.

EPA has established a public docket for this ICR under Docket ID No. OECA-2004-0023, which is available for public viewing at the Enforcement and Compliance Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OECA Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: ECOS Survey of State Performance Measures.

Abstract: The survey in question asks state environmental commissioners to report on their contribution to enforcement and compliance assistance for 2000-2003. They are asked to refer to their own records and account for the number of inspections, reviews, complaints etc. that have taken shape during this time. They are also asked to give the number and type of mechanisms and fines applied and collected. It also questions if and how the states feel they have been effective using these methods. There is a section of the survey asking the states to rate how important and useful they feel the statistics and reports required by the EPA are in conveying the current conditions within their borders. Importantly, the survey also aims to capture information about state activity in outcome measurement. In particular, it asks states about their experiences with compliance rate measurement and with calculating the environmental benefits of enforcement actions and compliance assistance. The survey is designed to capture compliance rates and activities directly from state records. This will provide a means in which the states' efforts to promote the EPA's philosophy on enforcement and compliance can be more readily monitored. The responses to this collection of information are voluntary. The information obtained by this survey is completely confidential unless a state wants their information to be publicized.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: States.

Estimated Number of Respondents: 49.

Frequency of Response: One time.

Estimated Total Annual Hour Burden: 98 hours.

Estimated Total Annual Cost: $4,500, includes $0 annualized capital or O&M costs and $4,500 annual labor costs.

Dated: August 31, 2004.
Oscar Morales,
Director, Collection Strategies Division.

[FR Doc. 04-20605 Filed 9-10-04; 8:45 am]

BILLING CODE 6560-50-P